DEPARTMENT OF TRANSPORTATION

Federal Aviation Administration

14 CFR Part 39

[Docket No. 2002-NM-330-AD; Amendment 39-13437; AD 2004-02-02]

RIN 2120-AA64

Airworthiness Directives; Empresa Brasileira de Aeronautica S.A. (EMBRAER) Model EMB-135 and -145 Series Airplanes

AGENCY: Federal Aviation Administration, DOT.

ACTION: Final rule; correction.

SUMMARY: This document corrects information in an existing airworthiness directive (AD) that applies to certain EMBRAER Model EMB-135 and EMB-145 series airplanes. That AD currently requires relocating the pitot 1 and pitot 2 drain valves from the nose landing gear compartment to the forward electronic compartment, and accomplishing follow-on actions. This document corrects a missing reference to the AD number in a certain section of the AD. This correction is necessary to ensure that operators have the correct AD number when referring to the AD or when performing corrective actions.

DATES: Effective March 3, 2004.

The incorporation by reference of certain publications listed in the regulations was approved previously by the Director of the Federal Register as of March 3, 2004 (69 FR 4057, January 28, 2004).

FOR FURTHER INFORMATION CONTACT: Todd Thompson, Aerospace Engineer, International Branch, ANM-116, FAA, Transport Airplane Directorate, 1601 Lind Avenue, SW., Renton, Washington 98055-4056; telephone 425-227-1175; fax 425-227-1149.

SUPPLEMENTARY INFORMATION: On January 14, 2004, the Federal Aviation Administration (FAA) issued AD 2004-02-02, amendment 39-13437 (69 FR 4057, January 28, 2004), which applies to certain EMBRAER Model EMB-135 and EMB-145 series airplanes. That AD requires relocating the pitot 1 and pitot 2 drain valves from the nose landing gear compartment to the forward electronic compartment, and accomplishing follow-on actions. That AD was prompted by reports that water accumulates in the pitot 1 and pitot 2 drain valves in the nose landing gear (NLG) compartment where they are subjected to freezing temperatures. Frozen water in the drain valve can expand and cause the pitot drain valves to fail so that the airspeed indication system tubing is open to ambient pressure. The actions required by that AD are intended to prevent ice from damaging the pitot drain valves, which could cause airspeed indication errors, resulting in display of erroneous or misleading information to the flight crew.

Need for the Correction

Information obtained recently by the FAA indicates that the AD number is missing from the PART 39—AIRWORTHINESS DIRECTIVES section, paragraph 2., of the AD.

The FAA has determined that a correction to AD 2004-02-02 is necessary. The correction will add the AD number to paragraph 2.

Correction of Publication

This document corrects the error and correctly adds the AD as an amendment to section 39.13 of the Federal Aviation Regulations (14 CFR 39.13).

The AD is reprinted in its entirety for the convenience of affected operators. The effective date of the AD remains March 3, 2004.

Since this action only adds the AD number to a certain paragraph of the AD, it has no adverse economic impact and imposes no additional burden on any person. Therefore, the FAA has determined that notice and public procedures are unnecessary.

List of Subjects in 14 CFR Part 39

Air transportation, Aircraft, Aviation safety, Incorporation by reference, Safety.

Adoption of the Correction

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Corrected]

2. Section 39.13 is amended by correctly adding the following airworthiness directive (AD):

2004-02-02 Empresa Brasileira De Aeronautica S.A. (EMBRAER): Amendment 39-13437. Docket 2002-NM-330-AD.

Applicability: Model EMB-135 and -145 series airplanes; as listed in EMBRAER Service Bulletin 145-34-0070, Change 03, dated July 16, 2003; and EMBRAER Service Bulletin 145LEG-34-0002, dated September 23, 2002; certificated in any category.

Compliance: Required as indicated, unless accomplished previously.

To prevent ice from damaging the pitot drain valves, which could cause airspeed indication errors, resulting in display of erroneous or misleading information to the flight crew, accomplish the following:

Relocation

(a) Within 2,000 flight hours or 12 months after the effective date of this AD, whichever occurs first: Relocate the pitot 1 and pitot 2 drain valves from the nose landing gear compartment to the forward electronic compartment; and install a plug, washers, and a nut to close the hole in the structure where the pitot 1 and pitot 2 drain valves were removed; per the Accomplishment Instructions of EMBRAER Service Bulletin 145-34-0070, Change 03, dated July 16, 2003; or EMBRAER Service Bulletin 145LEG-34-0002, dated September 23, 2002; as applicable.

Installation

(b) After accomplishment of paragraph (a) of this AD but prior to further flight: Install a new placard and apply sealant on the placard per the Accomplishment Instructions of EMBRAER Service Bulletin 145-34-0070, Change 03, dated July 16, 2003; or EMBRAER Service Bulletin 145LEG-34-0002, dated September 23, 2002; as applicable.

Actions Accomplished Per Previous Issue of Service Bulletin

(c) Actions accomplished before the effective date of this AD per EMBRAER Service Bulletin 145-34-0070, original issue, dated April 23, 2002; EMBRAER Service Bulletin 145-34-0070, Change 01, dated September 23, 2002; and EMBRAER Service Bulletin 145-34-0070, Change 02, dated December 2, 2002; are considered acceptable for compliance with the corresponding action specified in this AD.

Alternative Methods of Compliance

(d) In accordance with 14 CFR 39.19, the Manager, International Branch, ANM-116, Transport Airplane Directorate, FAA, is authorized to approve alternative methods of compliance for this AD.

Incorporation by Reference

(e) Unless otherwise specified in this AD, the actions shall be done in accordance with EMBRAER Service Bulletin 145-34-0070, Change 03, dated July 16, 2003; or EMBRAER Service Bulletin 145LEG-34-0002, dated September 23, 2002; as applicable. This incorporation by reference was approved by the Director of the Federal Register as of March 3, 2004 (69 FR 4057, January 28, 2004). Copies may be obtained from Empresa Brasileira de Aeronautica S.A. (EMBRAER), P.O. Box 343—CEP 12.225, Sao Jose dos Campos—SP, Brazil. Copies may be inspected at the FAA, Transport Airplane Directorate, 1601 Lind Avenue, SW., Renton, Washington; or at the Office of the Federal Register, 800 North Capitol Street, NW., suite 700, Washington, DC.

Note 1: The subject of this AD is addressed in Brazilian airworthiness directive 2002-06-01R1, dated November 8, 2002.

Effective Date

(f) The effective date of this amendment remains March 3, 2004.

Issued in Renton, Washington, on February 10, 2004.
Ali Bahrami,
Acting Manager, Transport Airplane Directorate, Aircraft Certification Service.

[FR Doc. 04-3492 Filed 2-18-04; 8:45 am]

BILLING CODE 4910-13-P